DEPARTMENT OF COMMERCE

National Oceanic And Atmospheric Administration

[Docket No. 050317077-5319-02]

Environmental Literacy Grants

AGENCY: Office of Education (OEd), Office of the Undersecretary of Commerce for Oceans and Atmosphere (USEC), National Oceanic and Atmospheric Administration (NOAA), Commerce.

ACTION: Notice and request for proposals.

SUMMARY: The NOAA Office of Education (OEd) is issuing a request for applications for environmental literacy projects. Projects selected for funding will have a duration between one and five years and will (1) further the use and incorporation of the Ocean Literacy Essential Principles and Fundamental Concepts in formal and informal education and/or measure ocean literacy among the public; or (2) strengthen the capacity to develop a workforce knowledgeable in weather and climate. All projects shall employ the strategies articulated in the NOAA Education Plan and involve NOAA entities as partners. It is anticipated that final recommendations for funding under this announcement will be made by June 30, 2006, and that projects funded under this announcement will have a start date no earlier than September 1, 2006.

DATES: Letters of Interest are required for all applications and must be received by 5 p.m., e.s.t., January 25, 2006. The deadline for full applications is 5 p.m., e.s.t. on March 1, 2006.

ADDRESSES: Letters of Interest should be submitted to Sarah Schoedinger at sarah.schoedinger@noaa.gov. If an applicant does not have Internet access, a hard copy of the letter of interest may be mailed to Sarah Schoedinger, DOC/NOAA, Office of Education, 1401 Constitution Avenue, NW., Room 6863, Washington, DC 20230. Please note: Hard copies submitted via the U.S. Postal Service can take up to 4 weeks to reach this office; applicants are recommended to send hard copies via expedited shipping methods (e.g., Airborne Express, DHL, Fed Ex, UPS).

Full applications should be submitted through Grants.gov APPLY (http://www.grants.gov). If an applicant does not have Internet access, one hard copy should be sent to Sarah Schoedinger, DOC/NOAA, Office of Education, 1401 Constitution Avenue, NW., Room 6863, Washington, DC 20230. If submitting a hard copy, applicants are requested to provide a CD—ROM of the application, including scanned signed forms or forms with electronic signatures. This announcement will also be available at: http://www.oesd.noaa.gov/funding_opps.html or by contacting the program official identified in FOR FURTHER INFORMATION CONTACT.

FOR FURTHER INFORMATION CONTACT: Sarah Schoedinger at sarah.schoedinger@noaa.gov, telephone 202-482-2893.

SUPPLEMENTARY INFORMATION: The NOAA Office of Education (OEd) is issuing a request for applications for environmental literacy projects. Projects selected for funding will have a duration between one and five years and will (1) further the use and incorporation of the Ocean Literacy Essential Principles and Fundamental Concepts (http://www.coexploration.org/oceanliteracy/documents/OceanLitConcepts_10.11.05.pdf) in formal and informal education and/or measure ocean literacy among the public; or (2) strengthen the capacity to develop a workforce knowledgeable in weather and climate. All projects shall employ the strategies articulated in the NOAA Education Plan (http://www.oesd.noaa.gov/NOAA_Ed_Plan.pdf) and involve NOAA entities as partners. It is anticipated that final recommendations for funding under this announcement will be made by June 30, 2006, and that projects funded under this announcement will have a start date no earlier than September 1, 2006. A detailed description for each program priority is in the full funding opportunity announcement that can be accessed via the Grants.gov Web site, the NOAA Web site at http://www.oesd.noaa.gov/funding_opps.html, or by contacting the program official identified in FOR FURTHER INFORMATION CONTACT.

Electronic Access

The full text of the full funding opportunity announcement for this OEd program can be accessed via the Grants.gov FIND Web site. That announcement will also be available at the NOAA Web site: http://www.oesd.noaa.gov/funding_opps.html or by contacting the program officials identified under FOR FURTHER INFORMATION CONTACT. Applicants must comply with all requirements contained in the full funding opportunity announcement. This Federal Register notice is available through the NOAA Home page at: http://www.noaa.gov/.

Statutory Authority: 15 U.S.C. 1540; P.L. 109-108, Department of Commerce and Related Agencies Appropriations Act, 2006.

CFDA: 11.469, Congressionally Identified Awards and Projects

Funding Availability

NOAA announces the availability of approximately $3,000,000 of Federal financial assistance in FY 2006 for Environmental Literacy projects. Approximately 5 to 10 awards in the form of grants or cooperative agreements will be made. NOAA will only consider projects that have a duration between 1 to 5 years. The total Federal amount for all years that may be requested from NOAA for the direct and indirect costs of the proposed project shall not exceed $600,000. The minimum Federal amount that must be requested from NOAA for all years for the direct and indirect costs is $100,000. Applications requesting Federal support from NOAA of less than $100,000 total or more than $600,000 total will not be considered for funding.

Publication of this notice does not oblige DOC/NOAA to award any specific project or to obligate any available funds. If an applicant incurs any costs prior to receiving an award agreement signed by an authorized NOAA Grants Officer, the applicant would do so solely at one's own risk of such costs not being included under the award.

Eligibility

Eligible applicants are accredited institutions of higher education, other nonprofits, commercial organizations, and state, local and Indian tribal governments. Federal agencies are not eligible to receive Federal assistance under this announcement, but may be project partners. Among those eligible applicants are K through 12 public and independent schools and school systems, and science centers and museums. The Department of Commerce/National Oceanic and Atmospheric Administration (DOC/NOAA) is strongly committed to increasing the participation of Minority Serving Institutions (MSIs), i.e., Historically Black Colleges and Universities, Hispanic-serving institutions, Tribal colleges and universities, Alaskan Native and Native Hawaiian institutions, and institutions that work in underserved communities. Applications are encouraged that involve any of the above institutions.

Cost Sharing Requirements

There are no cost-sharing requirements.

Evaluation and Selection Procedures

NOAA published its agency-wide solicitation entitled “Omnibus Notice Announcing the Availability of Grant Funds for Fiscal Year 2005” for projects for Fiscal Year 2005 in the Federal Register on June 30, 2004 (69 FR 39417). The evaluation criteria and selection procedures for projects contained in that omnibus notice are applicable to this solicitation. Copies of the notice are available on the Internet at: http://www.ago.noaa.gov/grants/funding.shtml. Further details on evaluation and selection criteria can be found in the full funding opportunity announcement.

Intergovernmental Review

Applications under this program are not subject to Executive Order 12372, ”Intergovernmental Review of Federal Programs.”

Limitation of Liability

In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements

The Department of Commerce Pre-Award Notification Requirements for Grants and Cooperative Agreements contained in the Federal Register notice of December 30, 2004 (69 FR 78389), are applicable to this solicitation.

Paperwork Reduction Act

This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001.

Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: December 5, 2005.
Helen Hurcombe,
Director, NOAA Acquisitions and Grants, U.S. Department of Commerce.

[FR Doc. E5-7101 Filed 12-8-05; 8:45 am]

BILLING CODE 3510-KC-P